DEPARTMENT OF THE INTERIOR

Bureau of Indian Affairs

Notice of Intent To Prepare an Environmental Impact Statement for the Proposed Moapa Cement Plant, Limestone Quarry and Associated Facilities, Moapa Indian Reservation, Clark County, NV

AGENCY: Bureau of Indian Affairs, Interior.

ACTION: Notice.

SUMMARY: This notice advises the public that the Bureau of Indian Affairs (BIA), in cooperation with the Moapa Band of Paiute Indians (Tribe), Bureau of Land Management (BLM), U.S. Environmental Protection Agency (EPA), U.S. Army Corps of Engineers (ACOE), and Ash Grove Cement Company (Ash Grove), will be gathering information needed for the preparation of an Environmental Impact Statement (EIS) and permits that may be issued by individual regulatory agencies. The information included in the EIS will be used to support the approval of multiple leases, right-of-way easements, special use permits, and/or other agreements between the Tribe and Ash Grove for the construction, operation, and maintenance of a proposed cement plant, a limestone quarry, other raw material extraction site(s) and infrastructure on the Moapa River Indian Reservation (Reservation) in Clark County, Nevada. The purpose and need for this proposed project is to provide an economic development opportunity for the Tribe, to provide a new source of cement in the southwestern United States, and to address the growing demand for cement in the United States. This notice also announces public scoping meetings to identify potential issues and alternatives for inclusion in the EIS.

DATES: Written comments on the scope and implementation of this proposal must arrive by March 23, 2005. The public scoping meetings will be held March 9 and 10, 2005, from 6 p.m. to 8 p.m.

ADDRESSES: You may mail, hand carry or telefax written comments to (1) Amy L. Heuslein, Regional Environmental Protection Officer, Bureau of Indian Affairs, Western Regional Office, P.O. Box 10, Phoenix, Arizona 85001, 400 North Fifth Street, Phoenix, Arizona 85004, Telefax (602) 379-3833; or (2) Kellie Youngbear, Agency Superintendent, Bureau of Indian Affairs, Southern Paiute Agency, 180 North 200 East, St. George, Utah 84771, Telefax (435) 674-9714.

The March 9, 2005, public scoping meeting will be held at the Moapa Tribal Hall, Number 1 Lincoln Street, Moapa River Indian Reservation, Moapa, Nevada. The March 10, 2005, meeting will be held at the BLM Field Office, 4701 North Torrey Pines Drive, Las Vegas, Nevada.

FOR FURTHER INFORMATION CONTACT: Amy Heuslein, (602) 379-6750, or Paul Schlafly, (435) 674-9720.

SUPPLEMENTARY INFORMATION: The EIS will assess the environmental consequences of BIA, BLM, EPA, ACOE and Tribal approval of the proposed long-term leases, right-of-way easements, special use permits and/or other agreements collectively involved in the development of a maximum of 2,200 acres of Reservation lands, encompassing all of the proposed project components described below. The proposed project area is located in the southern portion of the Reservation, in Township 16 South, Range 64 East and Township 16 South, Range 65 East in Clark County, approximately 35 miles northeast of Las Vegas, Nevada. Ash Grove intends to construct, operate, and maintain the proposed project on the Reservation for a period of 75 years.

The proposed cement plant would be constructed within a footprint encompassing approximately 160 acres (“plant site”), and have a production capacity of approximately 1.5 to 2.0 million tons of cement per year. Components of the cement production process include a quarry, grinding mills, unloading and storage areas, a kiln feed system, a 500 foot tall pre-heater tower, and a clinker and cement cooling system. A core building on the proposed plant site would include a control room, offices, maintenance shops and an equipment fueling station. The proposed quarry location would include a small office, a maintenance shop building and an equipment fueling station.

Fuel for plant components would principally be coal, possibly augmented by natural gas, oil/used oil, tire derived fuel and/or petroleum coke. Fuel would be shipped to the site via rail or truck. Natural gas would be supplied by buried pipeline from the existing Kern River Gas transmission pipeline, which is located in the Utility Right-of-Way through the Reservation. Coal, liquid fuels, raw materials, in-process materials and final product would be stored on the proposed plant site in silos, aboveground storage tanks or other enclosed structures. Electricity for the plant would be supplied by an overhead power line that would be constructed from either the Crystal Substation located approximately one-half mile to the south of the Reservation boundary, the Tortoise Substation located near the Reid Gardner power plant, or other source(s).

A total of approximately 500 acre-feet per year of water would be used in the manufacturing process and for dust control in the proposed project. The water would be supplied from the Tribe's groundwater or surface water rights, or if sufficient tribal water is not available, acquired from yet to be identified non-tribal sources off of the Reservation. Water would be transported by construction of a new pipeline to the proposed plant site, quarry, and/or other locations as required for dust control, and stored in aboveground tanks.

A new paved service road and railroad underpass would be constructed to provide access from the plant site to one of three Interstate 15 interchanges: the Crystal—Interstate 15 Interchange; the Apex—Interstate 15 Interchange; or the Ute—Interstate 15 Interchange. A railroad siding and loop track would be constructed to provide access to the Union Pacific railroad line. The various Portland cement products manufactured in this proposed plant would be loaded in trucks and rail cars on the plant site for shipment to customers via Interstate 15 and the Union Pacific Railroad.

The quarry where drilling and blasting for limestone would occur would be developed in the Arrow Canyon Range on Reservation lands, involving approximately 1,300 acres in Sections 5, 6, 7, and 8 of Township 16 South, Range 64 East. The quarried limestone would be crushed and delivered to the proposed cement plant site by belt conveyor, where it would be stored in an enclosed structure. Other additives or materials used in the cement manufacturing process would be delivered to the proposed plant site by truck or railroad and stored in enclosed structures. These materials mainly include coal, iron, silica, clay, alumina source and gypsum. Some additives or materials may be extracted from areas located on the Reservation, but if so, would be subject to separate leases or special use permits.

The proposed cement plant is expected to generate limited amounts of hazardous waste per month from maintenance and laboratory activity, thus would be classified as a Conditionally Exempt Small Quantity Generator. Any hazardous wastes generated would be inventoried and disposed of appropriately at an approved off-reservation hazardous waste recycling or disposal facility. In this and in all other respects, the proposed cement plant project would meet or exceed all federal, state and/or tribal criteria under applicable law.

Significant issues to be addressed in the EIS include, but are not limited to air quality, geology and soils, surface and groundwater resources, biological resources including threatened and endangered species, cultural resources, socioeconomic conditions, land use, aesthetics or visual resources, environmental justice, and Indian trust resources. The range of issues and alternatives to be addressed in the EIS may be expanded or reduced, based on comments received in response to this notice and at the public scoping meetings.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council of Environmental Quality Regulations (40 CFR Parts 1500 through 1508) implementing the procedural requirements of the National Environmental Policy Act of 1969, as amended (42 U.S.C. 4371 et seq.), Department of the Interior Manual (516 DM 1-6), and is in the exercise of authority delegated to the Principal Deputy Assistant Secretary—Indian Affairs by 209 DM 8.1.

Dated: February 10, 2005.
Michael D. Olsen,
Acting Principal Deputy Assistant Secretary—Indian Affairs.

[FR Doc. 05-3238 Filed 2-18-05; 8:45 am]

BILLING CODE 4310-W7-P